DEPARTMENT OF LABOR

Employment and Training Administration

Proposed Information Collection; Request Submitted for Public Comment and Recommendations; Management Information System Reporting Requirements for Youth Opportunity Grants

ACTION: Notice; request for comments.

SUMMARY: The Department of Labor (DOL), as part of its continuing effort to reduce paperwork and respondent burden, conducts a pre-clearance consultation program to provide the general public and federal agencies with an opportunity to comment on proposed and/or continuing collections of information in accordance with the Paper-work Reduction Act of 1995, (PRA95)(44 U.S.C. 3506(c)(2)(A). This program helps to ensure that requested data could be provided in the desired format, reporting burden (time and financial resources) is minimized, collection instruments are clearly under-stood, and the impact of collection requirements on respondents can be properly assessed. Currently, the Employment and Training Administration is soliciting comments concerning the proposed extension of information collection for the management information system (MIS) reporting requirements for Youth Opportunity Grants. A copy of the current information collection request forms ETA-9086 and ETA-9087, can be obtained by contacting the employee listed below in the contact section of this notice.

DATES: Written comments must be submitted on/or before July 29, 2002.

ADDRESSES: Gregg Weltz, Employment and Training Administration, U.S. Department of Labor, 200 Constitution Avenue, NW., Room N-4511, Washington, DC 20210, telephone: 202-693-3527. (this is not a toll-free number), e-mail: gweltz@doleta.gov.

SUPPLEMENTARY INFORMATION:]

I. Background

Youth Opportunity Grants concentrate a large amount of resources in high-poverty neighborhoods to increase the employment, high school graduation, and college enrollment rates of youth growing up in these communities. In February 1999, the DOL announced Youth Opportunity awards to 36 urban, rural, and Native American sites. The MIS requirements for these grants currently include information on enrollee characteristics, services received, outcomes, retention in jobs and school. Youth Opportunity program operators currently maintain individual records of enrollees through an electronic method. The purpose of this collection provides grantees, services providers and the Employment and Training Administration with critical program data in order to ensure effective an efficient delivery of program services under these grants.

II. Review Focus

The Department of Labor is particularly interested in comments which:

• Evaluate whether the proposed collection of information is necessary for proper performance of the functions of the agency, including whether the information will have practical utility;

• Evaluate the accuracy of the agency's estimate of the burden of the proposed collection of information, including the validity of the methodology and assumptions used; enhance the quality, utility, and clarity of the information to be collected; and

• Minimize the burden and the collection of information on those who are to respond, including through the use of appropriate automated, electronic, mechanical, or other technological collection techniques or other forms of information technology, e.g., permitting electronic submissions of responses.

III. Current Action

The Youth Opportunity Grant program is a five year initiative. The current OMB approval instrument will expire in the middle of the third-year of program operation. In order to continue to monitor in real-time, the effective and efficient delivery of program services delivered through the grant funds for the remaining years of program operation, this collection of information is necessary. In addition, through the collection of this information the Employment and Training Administration is able to calculate the Workforce Investment Act (WIA) youth performance measures. The WIA youth performance measures data is also sent to the States in which grants are located to generate additional performance calculations that require Unemployment Insurance wage record data. Without this collection it would be impossible to generate the WIA youth performance measures, a Youth Opportunity Grant's required under the WIA legislation.

At this time, no revision will be made to the existing collection.

Cite/reference | Total respondents | Frequency | Total responses | Average | Burden
ETA-9086 | 36 | Monthly | 432 | 104 | 44,928
ETA-9087 | 36 | Quarterly | 144 | 48 | 6912
Totals |  |  |  |  | 51,840

Type of Review: Extension (without change).

Agency: Employment and Training Administration.

Title: Management Information System Requirements for Youth Opportunity Grants OMB Number: 1205-0414 and Agency Number: ETA-9086 and ETA-9087.

Affected Public: Local Workforce Investment Boards and Youth Opportunity Service Providers such as community-based organizations, schools, Tribal Governments and community colleges.

Total Respondents: 36 Youth Opportunity Grantees.

Frequency: Monthly.

Total Responses: 576 each year.

Average Time Per Response: 130 hours. This is based on the following assumptions: Each site will need to enter updated information for an average of 1,250, participant records over the course of a year at an average time of one hour a year, or 104 hours per month. Sites will require an average of 16 hours to prepare each quarterly report site per month.

Estimated Total Burden Hours: 51,840 hours.

Estimated Total Burden Costs: $777,600 to maintain data collection each year.

Comments submitted in response to this notice will be summarized and/or included in the request for Office of Management and Budget approval of the information collection request; and they will become a matter of public record.

Dated: May 13, 2002.
Lorenzo D. Harrison,
Administrator, Office of Youth Services.

[FR Doc. 02-13404 Filed 5-28-02; 8:45 am]

BILLING CODE 4510-30-M